COMMODITY FUTURES TRADING COMMISSION

CFTC 2020-2024 Strategic Plan

AGENCY: Commodity Futures Trading Commission.

ACTION: Request for public comment.

SUMMARY: The Commodity Futures Trading Commission (CFTC or Commission) is providing notice that it is seeking public comments on its draft 2020-2024 Strategic Plan. This Commission approved version of the Strategic Plan includes the CFTC's mission, vision, core values, strategic goals, and strategic objectives.

DATES: Comments must be submitted on or before June 18, 2020.

ADDRESSES: Comments may be submitted by any of the following methods:

• Electronic Comments

Send an email to: StrategicPlan@CFTC.gov.

• Paper Comments

Send paper comments to: David Frederickson, Manager, Strategic and Operational Planning, Commodity Futures Trading Commission, Three Lafayette Centre, 1155 21st Street NW, Washington, DC 20581.

• Instructions

All submissions must include CFTC's agency name and the words “CFTC 2020-2024 Strategic Plan.” All comments, including attachments and other supporting materials, will become part of the public record and subject to public disclosure. Comments may be posted on CFTC's website, https://comments.cftc.gov. Sensitive personal information, such as account numbers or Social Security numbers, should not be included. You should submit only information that you wish to make available publicly. The Commission reserves the right, but shall have no obligation, to review, pre-screen, filter, redact, refuse or remove any or all of your submission that it may deem to be inappropriate for publication, such as obscene language or any identifying or contact information.

FOR FURTHER INFORMATION CONTACT: David Frederickson, Manager, Strategic and Operational Planning, at (202)-597-2584, or email: DFrederickson@cftc.gov.

SUPPLEMENTARY INFORMATION: The draft strategic plan is available at the Commission's website at https://www.cftc.gov/media/3871/CFTC2020_2024StrategicPlan/download.

Dated: May 13, 2020.
Robert Sidman,
Deputy Secretary of the Commission.

Note: The following appendix will not appear in the Code of Federal Regulations.

Appendix to CFTC 2020-2024 Strategic Plan—Commission Voting Summary

On this matter, Chairman Tarbert, and Commissioners Quintenz, Behnam, Stump, and Berkovitz voted in the affirmative. No Commissioner voted in negative.

[FR Doc. 2020-10676 Filed 5-18-20; 8:45 am]

BILLING CODE 6351-01-P